DEPARTMENT OF HOUSING AND URBAN DEVELOPMENT

[Docket No. FR-5193-N-03]

Notice of Proposed Information Collection for Public Comment: Housing Counseling Outcome Evaluation

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: March 31, 2008.

ADDRESSES: Interested persons are invited to submit comments regarding this proposal. Comments should refer to the proposal by name and/or OMB Control number and should be sent to: Reports Liaison Officer, Office of Policy Development & Research, Department of Housing and Urban Development, 451 7th Street, SW., Room 8226, Washington, DC 20410-5000.

FOR FURTHER INFORMATION CONTACT: Marina L. Myhre, (202) 708-3700, extension 5705 for copies of the proposed forms and other available documents. (This is not a toll-free number.)

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Housing Counseling Outcome Evaluation.

Description of the need for the information and proposed use: This request is for the clearance of survey instruments designed to provide statistically accurate information on the outcomes realized by clients of housing counseling agencies seeking assistance to either purchase a home (pre-purchase clients) or to resolve or prevent mortgage delinquency (post-purchase clients). Up to 60 housing counseling agencies will be recruited to voluntarily participate in the study. These agencies will be asked to seek the voluntary participation of all of their pre-purchase, post-purchase, and mortgage foreclosure mitigation and prevention clients over an eight-week period, with the goal of enrolling up to 1,000 pre-purchase clients; up to 1,000 post-purchase clients; and up to 2,000 mortgage foreclosure mitigation and prevention clients. Participating clients will be asked to complete a baseline survey providing demographic and financial information on their household and their reasons for seeking counseling. The participating counseling agencies will be asked to provide information on the characteristics of all counseling services provided to participating clients over a six-month period. Counseling agencies will also be asked to provide information on all of their educators and counselors providing services to these clients, including basic demographics and information on their experience and training as educators and counselors. The purpose of these surveys is to gather information needed to both document the share of clients realizing different outcomes following counseling and to analyze how these outcomes vary with the characteristics of clients and the services they receive.

OMB Approval Number: Pending.

Agency form numbers: None.

Members of Affected Public: Up to 60 housing Counseling Agencies and up to 4,000 counseling clients.

Estimation of the total number of hours needed to prepare the information collection including number of respondents, frequency of response, and hours of response: The average time per client for counseling agencies to document the services provided over a six-month period is two hours. The average time for counseling agencies to complete the survey on educator and counselor characteristics is one-quarter of an hour (with an expected average of eight counselors per agency). The average time for clients to complete the baseline survey instrument is one-half hour. Total burden hours are 8,120 for counseling agencies and 2,000 for counseling clients, or 10,120 total burden hours.

Status of the proposed information collection: Pending OMB approval.

Authority: Section 3506 of the Paperwork Reduction Act of 1995, 44 U.S.C. Chapter 35, as amended.

Dated: January 24, 2008.
Darlene F. Williams,
Assistant Secretary for Policy Development and Research.

[FR Doc. E8-1699 Filed 1-30-08; 8:45 am]

BILLING CODE 4210-67-P